DEPARTMENT OF LABOR

Employment and Training Administration

[TA-W-64,783]

Coherent-Deos, LLC, Including Workers Whose UI Wages Are Reported to Albany Services, Inc., Including On-Site Leased Workers From ATR International, Inc., et al.; Connecticut; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 23, 2009, applicable to workers of Coherent-DEOS, LLC, Bloomfield, Connecticut. The notice was published in the Federal Register on February 10, 2009 (74 FR 6653). The notice was amended on August 31, 2009 include on-site leased workers ATR International, Inc., Coworx PPS, LLC, Stewart Staffing Solutions, 888 Consulting Group and Roth Staffing Co and to include workers whose UI wages were reported Albany Services, Inc. The notice was published in the Federal Register on September 22, 2009 (74 FR 48296).

At the request of the State agency, the Department reviewed the certification for workers of the subject firm. The workers are engaged in the production of air-cooled carbon dioxide lasers.

Information shows that workers leased from Ultimate Staffing Services and TAC Worldwide were employed on-site at the Bloomfield, Connecticut location of Coherent-DEOS, LLC. The Department has determined that these workers were sufficiently under the control of the subject firm to be considered leased workers.

Based on these findings, the Department is amending this certification to include workers eased from Ultimate Staffing Services and TAC Worldwide working on-site at the Bloomfield, Connecticut location of Coherent-DEOS, LLC.

The amended notice applicable to TA-W-64,783 is hereby issued as follows:

All workers of Coherent-DEOS, LLC, including workers whose UI wages are reported to Albany Services, Inc., and including on-site leased workers from ATR International, Inc., Coworx PPS, LLC, Stewart Staffing Solutions, 888 Consulting Group, Roth Staffing Company, Ultimate Staffing Services and TAC Worldwide, Bloomfield, Connecticut, who became totally or partially separated from employment on or after December 26, 2007, through January 23, 2011, are eligible to apply for adjustment assistance under Section 223 of the Trade Act of 1974, and are also eligible to apply for alternative trade adjustment assistance under Section 246 of the Trade Act of 1974.

Signed at Washington, DC, this 6th day of October 2009.
Richard Church,
Certifying Officer, Division of Trade Adjustment Assistance.

[FR Doc. E9-25151 Filed 10-19-09; 8:45 am]

BILLING CODE 4510-FN-P